ENVIRONMENTAL PROTECTION AGENCY

40 CFR Part 52

[EPA-R07-OAR-2025-0200; FRL-12750-02-R7]

Air Plan Approval; IA; Alter Metal Recycling Permit Modification

AGENCY: Environmental Protection Agency (EPA).

ACTION: Final rule.

SUMMARY: The Environmental Protection Agency (EPA) is taking final action to approve revisions to the Iowa State Implementation Plan (SIP) to include a permit modification for Alter Metal Recycling. This final action will amend the SIP to incorporate revisions to the air construction permit for Alter Metal Recycling included in the State's 2008 Lead (Pb) National Ambient Air Quality Standards (NAAQS) attainment plan for a portion of Council Bluffs, Pottawattamie County, IA. These revisions do not impact the stringency of the SIP or have an adverse effect on air quality. The EPA's approval of this revision is being done in accordance with the requirements of the Clean Air Act (CAA).

DATES: This final rule is effective on September 15, 2025.

ADDRESSES: The EPA has established a docket for this action under Docket ID No. EPA-R07-OAR-2025-0200. All documents in the docket are listed on the https://www.regulations.gov website. Although listed in the index, some information is not publicly available, i.e., Confidential Business Information (CBI) or other information whose disclosure is restricted by statute. Certain other material, such as copyrighted material, is not placed on the internet and will be publicly available only in hard copy form. Publicly available docket materials are available through https://www.regulations.gov or please contact the person identified in the FOR FURTHER INFORMATION CONTACT section for additional information.

FOR FURTHER INFORMATION CONTACT: Bethany Olson, Environmental Protection Agency, Region 7 Office, Air Quality Planning Branch, 11201 Renner Boulevard, Lenexa, Kansas 66219; telephone number: (913) 551-7905; email address: olson.bethany@epa.gov.

SUPPLEMENTARY INFORMATION: Throughout this document “we,” “us,” and “our” refer to EPA.

Table of Contents

I. What is being addressed in this document?

II. Have the requirements for approval of a SIP revision been met?

III. What action is the EPA taking?

IV. Incorporation by Reference

V. Statutory and Executive Order Reviews

I. What is being addressed in this document?

The EPA is approving revisions to the Iowa SIP received on October 23, 2017. Iowa Department of Natural Resources (IDNR) requested to replace a SIP-approved air construction permit with a modified permit at Alter Metal Recycling in Council Bluffs, Pottawattamie County, IA. The air construction permit #A-14-521 for Alter Metal Recycling was included in Iowa's 2008 Lead NAAQS attainment plan for the Pottawattamie County, Council Bluffs, Iowa nonattainment area, which was approved by EPA on February 26, 2016 (81 FR 9770).

As discussed in further detail in the notice of proposed rulemaking (NPRM), dated June 3, 2025 (90 FR 23495), the SIP-approved permit #14-A-521 provided that Alter Metal Recycling could request to reduce the frequency of required silt load sampling if the silt load content was less than 2.70 g/m² for 12 consecutive months. As detailed in Iowa's October 23, 2017, letter requesting approval of the modified permit #A-14-521-S1 into the SIP, data submitted by Alter Metal Recycling demonstrated compliance between October 2014 and November 2016. Accordingly, IDNR granted Alter Metal's request to reduce the frequency of required silt load sampling from monthly to quarterly. The modified permit also includes updated contingency measures that are more protective of air quality during inclement weather.

The state's SIP submission requested that the EPA not act on Condition 11 of the permit, and accordingly that condition is not included in this action. Condition 11 references 567 Iowa Administrative Code (IAC) Chapter 24.1(1) pertaining to excess emissions during periods of startup, shutdown, or cleaning of control equipment. The EPA finds that the permit modification does not increase potential lead emissions and retains all measures necessary to attain and maintain the 2008 lead NAAQS.

For these reasons, the EPA finds that this SIP revision will not interfere with any applicable requirement concerning attainment and reasonable further progress (as defined in section 171 of the CAA), or any other applicable requirement of the CAA as required under section 110(l) of the Act. Accordingly, EPA is taking final action to remove permit #14-A-521 from the SIP and replace it with permit #14-A-521-S1. The full permit and the State's submission can be found in the docket for this action.

II. Have the requirements for approval of a SIP revision been met?

The State submission has met the public notice requirements for SIP submissions in accordance with 40 CFR 51.102. The submission also satisfied the completeness criteria of 40 CFR part 51, appendix V. The State provided public notice on this SIP revision from May 25, 2017, to June 27, 2017, and held a public hearing on June 27, 2017. The State received no comments. The EPA's NPRM and supporting information contained in the docket were made available for public comment from June 3, 2025, to July 3, 2025. The EPA received no comments. In addition, as explained above, the revision meets the substantive SIP requirements of the CAA, including section 110 and implementing regulations.

III. What action is the EPA taking?

The EPA is taking final action to approve the State's request to modify the SIP-approved permit for Alter Metal Recycling. This action removes air construction permit #14-A-521 from the Iowa SIP and replaces it with permit #14-A-521-S1.

IV. Incorporation by Reference

In this document, the EPA is finalizing regulatory text that includes incorporation by reference. In accordance with requirements of 1 CFR 51.5, the EPA is removing the EPA-approved permit #14-A-521 from the Iowa SIP and adding incorporation by reference of the Iowa permit #14-A-521-S1 discussed in section II. of this preamble and as set forth below in the amendments to 40 CFR part 52. The EPA has made, and will continue to make, these materials generally available through https://www.regulations.gov and at the EPA Region 7 Office (please contact the person identified in the FOR FURTHER INFORMATION CONTACT section of this preamble for more information).

Therefore, these materials have been approved by the EPA for inclusion in the State Implementation Plan, have been incorporated by reference by EPA into that plan, are fully federally enforceable under sections 110 and 113 of the CAA as of the effective date of the final rulemaking of the EPA's approval, and will be incorporated by reference in the next update to the SIP compilation.¹

¹ 62 FR 27968, May 22, 1997.

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

This action is subject to the Congressional Review Act, and EPA will submit a rule report to each House of the Congress and to the Comptroller General of the United States. This action is not a “major rule” as defined by 5 U.S.C. 804(2).

Under section 307(b)(1) of the CAA, petitions for judicial review of this action must be filed in the United States Court of Appeals for the appropriate circuit by October 14, 2025. Filing a petition for reconsideration by the Administrator of this final rule does not affect the finality of this action for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: July 31, 2025.
James Macy,
Regional Administrator, Region 7.

For the reasons stated in the preamble, the EPA amends 40 CFR part 52 as set forth below:

PART 52—APPROVAL AND PROMULGATION OF IMPLEMENTATION PLANS

1. The authority citation for part 52 continues to read as follows:

Authority: 42 U.S.C. 7401 et seq.

Subpart Q—Iowa

2. In § 52.820, the table in paragraph (d) is amended by revising the entry “(111)” to read as follows:

§ 52.820 Identification of plan.

* * * * *

(d) * * *

EPA-Approved Iowa Source-Specific Orders/Permits
Name of source | Order/permit No. | State effective date | EPA approval date | Explanation
* * * * * * *
(111) Alter Metal Recycling | Permit No. 14-A-521-S1 | 6/30/2017 | 8/14/2025,90 FR [insert Federal Register page where the document begins] | 2008 Pb NAAQS Attainment Plan; condition 11 of the permit is not part of the SIP.
* * * * * * *

* * * * *

[FR Doc. 2025-15442 Filed 8-13-25; 8:45 am]

BILLING CODE 6560-50-P